DEPARTMENT OF ENERGY

Federal Energy Regulatory Commission

[Docket No. ER02-1656-000]

California Independent System Operator Corporation; Notice of FERC Staff Participation

May 3, 2005.

The Federal Energy Regulatory Commission (Commission) hereby gives notice that on May 3, 2005, members of its staff will participate in a conference call on the Draft Simplified and Reorganized California Independent System Operator (CAISO) Tariff, hosted by the CAISO. The primary purpose of this initial draft is to incorporate language found in Protocols into the existing CAISO Tariff and to recommend the deletion of duplicative language.

Sponsored by the CAISO, the meeting is open to all stakeholders, and staff's attendance is part of the Commission's ongoing outreach efforts. The meeting may discuss matters at issue in Docket No. ER02-1656-000.

FOR FURTHER INFORMATION CONTACT: Katherine Gensler at katherine.gensler@ferc.gov; (916) 294-0275.

Magalie R. Salas,
Secretary.

[FR Doc. E5-2249 Filed 5-9-05; 8:45 am]

BILLING CODE 6717-01-P